DEPARTMENT OF EDUCATION

Submission for OMB Review; Comment Request; Correction

AGENCY: Department of Education.

ACTION: Notice; correction.

SUMMARY: The Department of Education published a document in the Federal Register of June 21, 2000, concerning a request for comments on the Evaluation of the 21st Century Community Learning Centers Program. The reporting and recordkeeping responses on this document were incorrectly stated.

FOR FURTHER INFORMATION CONTACT: Jacqueline Montague, 202-708-5359.

Correction

In the Federal Register of June 21, 2000, in FR Doc 00-15573, on page 38521, in the 1st column, correct the “Reporting and Recordkeeping Hour Burden” to read:

Reporting and Recordkeeping Hour Burden: Responses: 18,780; Burden Hours: 41,090.

Dated: June 29, 2000.
John Tressler,
Leader, Regulatory Information Management.

[FR Doc. 00-17009 Filed 7-5-00; 8:45 am]

BILLING CODE 4000-01-P